DEPARTMENT OF HEALTH AND HUMAN SERVICES

Centers for Disease Control and Prevention

[30Day-12-12JF]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

Returning our Veterans to Employment and Reintegration (ROVER): National Surveys of Assistance Dog Providers and Veterans, National Institute for Occupational Safety and Health (NIOSH), Centers for Disease Control and Prevention (CDC).

Background and Brief Description

NIOSH, under P.L. 91-596, Sections 20 and 22 (Section 20-22, Occupational Safety and Health Act of 1970) has the responsibility to conduct research relating to innovative methods, techniques, and approaches dealing with occupational safety and health problems.

Reintegrating Post-9/11 Veterans into civilian life and employment is complicated by recent exposure to war zone stressors (e.g., combat, bombs, improvised explosive devices, injury and death of military personnel and civilians) and development of clinical disorders, such as posttraumatic stress disorder (PTSD) and depression. PTSD, for example, is typified by such symptoms as re-experiencing war zone stressors (e.g., distracting intrusive thoughts and images, disturbing nightmares); hyper-arousal (e.g., intense startle response, poor concentration and memory, constantly being on-guard, disturbed sleep, high irritability); and avoidance of people (family, friends, co-workers), places (such as enclosed areas, crowds), and things (e.g., loud noises, certain sights and smells) that remind one of war zone stressors. Such symptoms can have a significant impact on the ability of a Veteran to work in a setting with features such as other people, enclosed work areas, constant movement and noise, tasks that require concentration to details or safety issues, and stress related to requests and feedback of supervisors or task speed and accuracy.

An approach for helping Veterans with PTSD and other psychiatric impairments is that of using service dogs for assistance and support. A quick Internet search will find dozens of Web sites by providers of service dogs for Veterans, with assistance in transition to daily life (not necessarily employment) being the primary goal. In support of this overall approach, Senators Al Franken and Johnny Isakson cosponsored the Service Dogs for Veterans Act, to create a pilot program within Veterans Affairs to pair service dogs with Veterans who have physical and mental injuries and disabilities, including PTSD. The bill was signed into law by President Obama in mid-2009, but it is an unfunded mandate whose focus is not on employment. Thus, although there is significant interest in service dogs for Veterans to aid in readjustment, the focus has not been on employment.

The present research study will focus on the following questions with two surveys. Survey 1 of service dog providers will address the following questions:

1. Among assistance dog providers sampled in the U.S., how many provide services to Veterans?

2. Among assistance dog providers that provide services to Veterans, what are the specific strategies used or services offered to address issues related to Veterans and, specifically, return to work.

3. From the perspective of assistance dog providers, have the services or the requests for services to assist Veterans return to work increased, decreased, or remained the same during the past 5 years.

Survey 2 of Veterans will address the following questions:

The purpose of the study is to increase available information about services provided to Veterans by assistance dog training organizations, and to increase available information on Veteran's attitudes and perceptions about physical, psychological, physiological, and functional barriers that prevent Veterans with PTSD and other physical or psychiatric disorders from returning to work, and to provide information about the potential benefits of animals and animal-assisted interventions. Thus, the approach used in this study is descriptive. The surveys will be administered in a web-based format.

The information and the internet link to the web-based Survey 1 will be sent by email to approximately 1,000 service dog providers. On the basis of similar surveys of small businesses or non-profit organizations, it is estimated that approximately 300 or 30% of the organizations contacted will complete the survey. The burden table also accounts for approximately 700 people who will read the initial email or take the follow up phone call only. It's estimated that these activities (reading the email, taking the follow up phone call, and forwarding the survey announcement to appropriate personnel in the organization) will take approximately 10 min for a total burden of 117 hours.

For survey 2, an estimated 100 persons in various veterans agencies across the U.S. will receive email announcements of the veterans survey and a follow up phone call. The activities associated with reading the email, taking the follow up phone call, and distributing the flyer or forwarding the survey announcement to additional individuals is estimated to take up to 10 min. Based on recent surveys of veterans, a 10% response rate is expected from among the estimated 60,000 interested veterans from across all 50 states for a total number of 6,000 respondents. For each respondent, the expected time to complete the survey will be approximately 60 minutes.

Results of this survey will lead to recommendations and guidance for assistance dog providers, healthcare professionals, researchers, and policymakers pertaining to animal-assisted interventions to help facilitate the reintegration and reemployment of Veterans. There are no costs to the respondents other than their time. The total estimated annual burden hours are 6,284.

Estimated Annualized Burden Hours
Type of respondent | Form name | Number of respondents | Number of responses per respondent | Average burden per response (in hours)
Assistance Dog Providers who read the initial email or take the follow up phone call only | Assistance Dog Provider Recruitment Email | 700 | 1 | 10/60
Assistance Dog Providers choosing to complete survey | Assistance Dog Provider Survey | 300 | 1 | 30/60
Veterans Agency Contacts (persons in veterans agencies who read the initial email or take the follow up phone call) | Veterans Survey Announcement Email | 100 | 1 | 10/60
U.S. Veterans | Veteran Survey | 6,000 | 1 | 1

Ron A. Otten,
Director, Office of Scientific Integrity, Office of the Associate Director for Science, Office of the Director, Centers for Disease Control and Prevention.

[FR Doc. 2013-10403 Filed 5-1-13; 8:45 am]

BILLING CODE 4163-18-P